GENERAL SERVICES ADMINISTRATION

OMB Control No. 3090-0043

Information Collection; Appraisal of Fair Annual Parking Rate per Space for Standard Level User Charge; GSA Form 3357

AGENCY: Public Buildings Service, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding appraisal of fair annual parking rate per space for standard level user charge.

Public comments are particularly invited on: Whether this collection of information is necessary and whether it will have practical utility; whether our estimate of the public burden of this collection of information is accurate, and based on valid assumptions and methodology; ways to enhance the quality, utility, and clarity of the information to be collected.

DATES: Submit comments on or before: November 1, 2004.

FOR FURTHER INFORMATION CONTACT: Robert A. Yevoli, Policy and Analysis Division at telephone (202) 219-1403 or via email to robert.yevoli@gsa.gov.

ADDRESSES: Submit comments regarding this burden estimate or any other aspect of this collection of information, including suggestions for reducing this burden to the Regulatory Secretariat (V), General Services Administration, Room 4035, 1800 F Street, NW., Washington, DC 20405. Please cite OMB Control No. 3090-0043, Appraisal of Fair Annual Parking Rate per Space for Standard Level User Charge; GSA Form 3357, in all correspondence.

SUPPLEMENTARY INFORMATION:

A. Purpose

GSA Form 3357 is needed by GSA contract and staff appraisers who use the form for estimating parking rates assessed on Federal agencies occupying space in GSA owned or controlled buildings.

B. Annual Reporting Burden

Respondents: 260

Responses Per Respondent: 5

Total Responses: 1300

Hours Per Response: 1.6

Total Burden Hours: 2,080

OBTAINING COPIES OF PROPOSALS: Requesters may obtain a copy of the information collection documents from the General Services Administration, Regulatory Secretariat (V), 1800 F Street, NW., Room 4035, Washington, DC 20405, telephone (202) 208-7312. Please cite OMB Control No. 3090-0043, Appraisal of Fair Annual Parking Rate Per Space for Standard Level User Charge; GSA Form 3357, in all correspondence.

Dated: August 25, 2004
Michael W. Carleton,
Chief Information Officer.

[FR Doc. 04-19827 Filed 8-30-04; 8:45 am]

BILLING CODE 6820-23-S